DEPARTMENT OF THE INTERIOR

National Park Service

Notice of Intent To Prepare an Environmental Impact Statement for the General Management Plan for Fort Raleigh National Historic Site, Manteo, NC

SUMMARY: Pursuant to section 102(2)(C) of the National Environmental Policy Act of 1969 and National Park Service policy in Director's Order Number 2 (Park Planning) and Director's Order Number 12 (Conservation Planning, Environmental Impact Analysis, and Decision-making) the National Park Service will prepare an Environmental Impact Statement for the General Management Plan for Fort Raleigh National Historic Site. The authority for publishing this notice is contained in 40 CFR 1506.6.

The statement will assess potential environmental impacts associated with various types and levels of visitor use and resources management within the National Historic Site. This General Management Plan and Environmental Impact Statement are being prepared in response to the requirements of the National Parks and Recreation Act of 1978, Pub. L. 95-625. The National Park Service is currently accepting comments from interested parties on issues, concerns, and suggestions pertinent to the management of Fort Raleigh.

Suggestions and ideas for managing the cultural and natural resources and visitor experiences at Fort Raleigh are encouraged. Comments may be submitted in writing to the address listed at the end of this notice or through the GMP Web site, which is linked to the park's Web site at http://www.nps.gov/fora.

The National Park Service will publish periodic newsletters on the GMP Web site to present scoping issues and preliminary management concepts to the public as they are developed. Public meetings to present draft management concepts will be conducted in the local area. Specific locations, dates, and times will be announced in local media and on the GMP Web site.

Please note that due to public disclosure requirements, the National Park Service, if requested, is required to make the names and addresses of those who submit written comments public. Anonymous comments will not be considered. However, individual respondents may request that we withhold their names and addresses from the public record. If you wish to withhold your name and/or address, you must state that request prominently at the beginning of your comment. We will make all submissions from organizations or businesses, and from individuals identifying themselves as representatives or officials of organizations or businesses, available for public inspection in their entirety.

DATES: Locations, dates, and times of public scoping meetings will be published in local newspapers and may also be obtained by contacting the National Park Service Southeast Regional Office, Planning and Compliance Division. This information will also be published on the General Management Plan Web site for Fort Raleigh.

ADDRESSES: Scoping suggestions should be submitted to the following address to ensure adequate consideration by the Service: Superintendent, Fort Raleigh National Historic Site, 1401 National Park Drive, Manteo, North Carolina, 27954. Telephone: 252-473-2111, ext. 150.

FOR FURTHER INFORMATION CONTACT: Superintendent, Fort Raleigh National Historic Site, 1401 National Park Drive, Manteo, North Carolina, 27954. Telephone: 252-473-2111, ext. 150.

SUPPLEMENTARY INFORMATION: The Draft and Final General Management Plan and Environmental Impact Statement will be made available to all known interested parties and appropriate agencies. Full public participation by Federal, State, and local agencies as well as other concerned organizations and private citizens is invited throughout the preparation process of this document.

The responsible official for this Environmental Impact Statement is Patricia A. Hooks, Regional Director, Southeast Region, National Park Service, 100 Alabama Street SW., 1924 Building, Atlanta, Georgia 30303.

Dated: October 28, 2004.
Patricia A. Hooks,
Regional Director, Southeast Region.

[FR Doc. 04-27609 Filed 12-16-04; 8:45 am]

BILLING CODE 4312-KA-P